DEPARTMENT OF HEALTH AND HUMAN SERVICES

Health Resources and Services Administration

Agency Information Collection Activities: Submission to OMB for Review and Approval; Public Comment Request; Information Collection Request Title: NURSE Corps Loan Repayment Program OMB No. 0915-0140—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than May 11, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: NURSE Corps Loan Repayment Program OMB No. 0915-0140—Revision.

Abstract: The NURSE Corps Loan Repayment Program (NURSE Corps LRP) assists in the recruitment and retention of professional Registered Nurses (RNs), including advanced practice RNs (e.g., nurse practitioners, certified registered nurse anesthetists, certified nurse-midwives, clinical nurse specialists), dedicated to working at eligible health care facilities with a critical shortage of nurses (e.g., a Critical Shortage Facility) or working as nurse faculty in eligible, accredited schools of nursing, by decreasing the financial barriers associated with pursuing a nursing profession. The NURSE Corps LRP provides loan repayment assistance to these nurses to repay a portion of their qualifying educational loans in exchange for full-time service at a public or private nonprofit Critical Shortage Facility or in an eligible, accredited school of nursing.

Need and Proposed Use of the Information: The information is used to consider an applicant for a NURSE Corps LRP contract award and to monitor a participant's compliance with the service requirements. Individuals must submit an application to participate in the program. The application asks for personal, professional, educational, and financial information required to determine the applicant's eligibility to participate in the NURSE Corps LRP. The semi-annual employment verification form asks for personal and employment information to determine if a participant is in compliance with the service requirements. The Authorization to Release Employment Information form has been revised as a self-certification within the NURSE Corps LRP application process, with applicants clicking a box. This contributes to a decrease in the overall burden by 550 hours.

Likely Respondents: Professional RNs or advanced practice RNs who are interested in participating in the NURSE Corps LRP, and official representatives at their service sites.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

The estimates of reporting burden for applicants are as follows:

Form name | Number of respondents | Number of responses per respondent | Total responses | Average burden per response (in hours) | Total burden hours
NURSE Corps LRP Application * | 5,500 | 1 | 5,500 | 2.0 | 11,000
Authorization to Release Employment Information Form | 5,500 | 1 | 5,500 | .10 | 550
Total | 5,500 |  | 11,000 |  | 11,550
* The burden hours associated with this instrument account for both new and continuation applications. Additional (uploaded) supporting documentation is included as part of this instrument and reflected in the burden hours.

The estimates of reporting burden for participants are as follows:

Form name | Number of respondents | Number of responses per respondent | Total responses | Average burden per response (in hours) | Total burden hours
Participant Semi-Annual Employment Verification Form | 2,300 | 2 | 4,600 | .5 | 2,300
Total | 2,300 |  | 4,600 |  | 2,300
Total for Applicants and Participants | 7,800 |  | 15,600 |  | 13,850

Jason E. Bennett,
Director, Division of the Executive Secretariat.

[FR Doc. 2017-07273 Filed 4-10-17; 8:45 am]

BILLING CODE 4165-15-P